DEPARTMENT OF ENERGY

Federal Energy Regulatory Commission

Combined Notice of Filings

Take notice that the Commission has received the following Natural Gas Pipeline Rate and Refund Report filings:

Filings Instituting Proceedings

Docket Numbers: RP19-274-000.

Applicants: American Midstream (AlaTenn), LLC.

Description: eTariff filing per 1430: Submission of Form 501-G.

Filed Date: 11/8/18.

Accession Number: 20181108-5123.

Comments Due: 5 p.m. ET 11/20/18.

Docket Numbers: RP19-275-000.

Applicants: Chandeleur Pipe Line, LLC.

Description: eTariff filing per 1430: 501-G Report Filing.

Filed Date: 11/8/18.

Accession Number: 20181108-5135.

Comments Due: 5 p.m. ET 11/20/18.

Docket Numbers: RP19-276-000.

Applicants: Young Gas Storage Company, Ltd.

Description: eTariff filing per 1430: Young Form 501-G Filing.

Filed Date: 11/8/18.

Accession Number: 20181108-5160.

Comments Due: 5 p.m. ET 11/20/18.

Docket Numbers: RP19-277-000.

Applicants: Natural Gas Pipeline Company of America.

Description: § 4(d) Rate Filing: Removal of Expired Agreements December 2018 to be effective 12/10/2018.

Filed Date: 11/9/18.

Accession Number: 20181109-5001.

Comments Due: 5 p.m. ET 11/21/18.

Docket Numbers: RP19-278-000.

Applicants: Algonquin Gas Transmission, LLC.

Description: § 4(d) Rate Filing: Nov2018 Removal of Terminated Negotiated Rates to be effective 12/9/2018.

Filed Date: 11/9/18.

Accession Number: 20181109-5004.

Comments Due: 5 p.m. ET 11/21/18.

Docket Numbers: RP19-279-000.

Applicants: Texas Eastern Transmission, LP.

Description: § 4(d) Rate Filing: Nov2018 Cleanup—Remove Terminated Negotiated Rates to be effective 12/9/2018.

Filed Date: 11/9/18.

Accession Number: 20181109-5005.

Comments Due: 5 p.m. ET 11/21/18.

Docket Numbers: RP19-280-000.

Applicants: Spectra Energy Partners, LP.

Description: Petition for Limited Waiver of Order No. 787, et al. of Spectra Energy Partners, LP under RP19-280.

Filed Date: 11/8/18.

Accession Number: 20181108-5207.

Comments Due: 5 p.m. ET 11/20/18.

Docket Numbers: RP19-281-000.

Applicants: Northwest Pipeline LLC.

Description: § 4(d) Rate Filing: Non-Conforming Service agreement Cascade No. 142548 to be effective 11/1/2018.

Filed Date: 11/9/18.

Accession Number: 20181109-5146.

Comments Due: 5 p.m. ET 11/21/18.

Docket Numbers: RP19-282-000.

Applicants: Tallgrass Interstate Gas Transmission, LLC.

Description: § 4(d) Rate Filing: Interactive Auction Procedures to be effective 12/9/2018.

Filed Date: 11/9/18.

Accession Number: 20181109-5163.

Comments Due: 5 p.m. ET 11/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2018.
Nathaniel J. Davis, Sr.,
Deputy Secretary.

[FR Doc. 2018-25137 Filed 11-16-18; 8:45 am]

BILLING CODE 6717-01-P